DEPARTMENT OF COMMERCE

International Trade Administration

[A-570-901]

Certain Lined Paper Products From the People's Republic of China: Notice of Court Decision Not in Harmony With Final Results of Administrative Review and Notice of Amended Final Results of Administrative Review Pursuant to Court Decision

AGENCY: Import Administration, International Trade Administration, Department of Commerce.

SUMMARY: On August 11, 2011, the United States Court of International Trade (“CIT”) sustained the Department of Commerce's (“the Department's”) results of redetermination as applied to Shanghai Lian Li Paper Products Co., Ltd. (“Lian Li”) pursuant to the CIT's decision in Association of American School Paper Suppliers v. United States, Court No. 09-00163, Slip Op. 10-82 (July 27, 2010). See Final Results of Redetermination Pursuant to Remand, Court No. 09-00163, dated December 6, 2010 (“Remand Results”), and Association of American School Paper Suppliers v. United States, Court No. 09-00163, Slip Op. 11-101 (August 11, 2011). The Department is notifying the public that the final CIT judgment in this case is not in harmony with the Department's final determination and is amending the final results of the administrative review of the antidumping duty order on certain lined paper products (“CLPP”) from the People's Republic of China (“PRC”) covering the period of review (“POR”) of April 17, 2006, through August 31, 2007, with respect to Lian Li.

DATES: Effective Date: August 22, 2011.

FOR FURTHER INFORMATION CONTACT: Victoria Cho, AD/CVD Operations, Office 3, Import Administration, International Trade Administration, U.S. Department of Commerce, 14th Street and Constitution Avenue, NW., Washington, DC 20230; telephone; (202) 482-5075.

SUPPLEMENTARY INFORMATION:

Background

On April 14, 2009, the Department published its final results of the administrative review for CLPP from the PRC for the period April 17, 2006, through August 31, 2007. See Certain Lined Paper Products From the People's Republic of China: Notice of Final Results of the Antidumping Duty Administrative Review, 74 FR 17160 (April 14, 2009) (“Final Results”).

On December 22, 2009, the Department published its amended final results of review. See Notice of Amended Final Results of the Antidumping Duty Administrative Review of Certain Lined Paper Products From the People's Republic of China, 74 FR 68036 (December 22, 2009) (“Amended Final”).

AASPS challenged the Department's Amended Final at the CIT. On July 27, 2010, the CIT remanded the case for the Department to revisit its determination that the financial information for Sundaram Multi Pap Ltd. (“Sundaram”) is the best information available to calculate surrogate financial values for Lian Li.

On December 6, 2010, the Department issued its final results of remand redetermination. See Remand Results. The Department continued to find that Sundaram's financial information constitutes the best available information on the record for calculating surrogate financial ratios. The Department also determined that, in the Amended Final, it had not identified the figures used to calculate the surrogate financial ratios, and had erroneously relied on actual values from the Sundaram Profit and Loss statement as opposed to dividing those values by the appropriate denominator to calculate the surrogate financial ratios. In the Remand Results, the Department calculated the surrogate financial ratios by dividing the actual values from the Sundaram Profit and Loss statement by the appropriate denominator. See Remand Results at 28. On August 11, 2011, the CIT affirmed the Department's Remand Results. See Association of American School Paper Suppliers v. United States, Court No. 09-00163, Slip Op. 11-101 (August 11, 2011).

Timken Notice

Consistent with the decision of the United States Court of Appeals for the Federal Circuit (“CAFC”) in Timken Co. v. United States, 893 F.2d 337 (CAFC 1990) (“Timken”), as clarified by Diamond Sawblades Mfrs. Coalition v. United States, 626 F.3d 1374 (CAFC 2010), pursuant to section 516A(c) of the Tariff Act of 1930, as amended (“the Act”) 19 U.S.C. 1516a(c), the Department must publish a notice of a court decision that is not “in harmony” with a Department determination and must suspend liquidation of entries pending a “conclusive” court decision. The CIT's judgment on August 11, 2011, sustaining the Department's Remand Results with respect to Lian Li constitutes a decision of that court that is not in harmony with the Department's Amended Final. This notice is published in fulfillment of the publication requirements of Timken. Accordingly, the Department will continue the suspension of liquidation of the subject merchandise pending the expiration of the period of appeal or, if appealed, pending a final and conclusive court decision.

Amended Final Results

Because there is now a final court decision with respect to Lian Li, Lian Li's weighted-average dumping margin for the period April 1, 2006, through August 31, 2007, is 8.10 percent. In the event the CIT's ruling is not appealed or, if appealed, upheld by the CAFC, the Department will instruct U.S. Customs and Border Protection to assess antidumping duties on entries of the subject merchandise exported during the POR by Lian Li using the revised assessment rate calculated by the Department in the Remand Results.

This notice is issued and published in accordance with sections 516A(e)(1), 751(a)(1), and 777(i)(1) of the Act.

Dated: August 19, 2011.
Christian Marsh,
Acting Deputy Assistant Secretary for Import Administration.

[FR Doc. 2011-21770 Filed 8-24-11; 8:45 am]

BILLING CODE 3510-DS-P